OFFICE OF GOVERNMENT ETHICS

Agency Information Collection Activities: Submission for OMB Review; Comment Request for Extension of Approval for an Unmodified OGE Form 450 Executive Branch Confidential Financial Disclosure Report

AGENCY: Office of Government Ethics (OGE).

ACTION: Notice.

SUMMARY: The Office of Government Ethics has submitted to the Office of Management and Budget (OMB) a request for review and one-year extension of approval under the Paperwork Reduction Act (PRA) of the current (unmodified) version of the OGE Form 450 Executive Branch Confidential Financial Disclosure Report form (hereafter, OGE Form 450). The current OGE Form 450 is to continue to be accompanied by agency notification to filers of the adjustment of the gifts/travel reimbursements reporting thresholds as explained below.

The reason for this request is that paperwork clearance for the OGE Form 450 would otherwise expire under the PRA at the end of March 2006. In a first round paperwork notice published last summer in the Federal Register, OGE proposed a modified OGE Form 450. Because we received so many helpful comments in response to that notice, we have significantly redesigned the proposed new modified OGE Form 450 and recently separately published another first round paperwork notice in order to provide a further comment period. OGE's present notice and submission to OMB requesting one-year paperwork renewal of the current version of the OGE Form 450 will allow the existing confidential report form to continue to be used by new entrant filers for the rest of 2006 while OGE pursues finalization of the new form. (OGE plans to waive this fall's incumbent OGE Form 450 filing, with the next annual incumbent filer reports to be due in February 2007 utilizing the new modified form once it is cleared for use starting next year.)

DATES: Comments by the public and agencies on this current information collection, as proposed in this notice with no modifications, are invited and should be received by May 1, 2006.

ADDRESSES: Comments should be sent to OMB Desk Officer for OGE, Office of Information and Regulatory Affairs, Office of Management and Budget, New Executive Office Building, Room 10235, Washington, DC 20503; Telephone: 202-395-7316; FAX: 202-395-6974.

FOR FURTHER INFORMATION CONTACT: James V. Parle, Associate Director, Information Resources Management Division, Office of Government Ethics; Telephone: 202-482-9300; TDD: 202-482-9293; Fax: 202-482-9237. A copy of the unmodified current OGE Form 450 may be obtained, without charge, by contacting Mr. Parle; it is also available in the Forms, Publications and Other Ethics Documents section of OGE's Internet Web site at http://www.usoge.gov.

SUPPLEMENTARY INFORMATION: The OGE Form 450 (OMB control #3209-0006) collects information from covered department and agency officials as required under OGE's executive branchwide regulatory provisions in subpart I of 5 CFR part 2634. The OGE Form 450 serves as the uniform report form for collection, on a confidential basis, of financial information required by the OGE regulation from certain new entrant and incumbent employees of the Federal Government executive branch departments and agencies. Agency ethics officials then use the completed OGE Form 450 reports to conduct conflict of interest reviews and to resolve any actual or potential conflicts found.

The basis for the OGE regulation and the report form is two-fold. First, section 201(d) of Executive Order 12674 of April 12, 1989 (as modified by Executive Order 12731 of October 17, 1990, 3 CFR, 1990 Comp., pp. 306-311, at p. 308) makes OGE responsible for the establishment of a system of nonpublic (confidential) financial disclosure by executive branch employees to complement the system of public financial disclosure under the Ethics in Government Act of 1978 (the Ethics Act), as amended, 5 U.S.C. appendix. Second, section 107(a) of the Ethics Act, 5 U.S.C. app., sec. 107(a), further provides authority for OGE as the supervising ethics office for the executive branch of the Federal Government to require that appropriate executive agency employees file confidential financial disclosure reports, “in such form as the supervising ethics office may prescribe.” The OGE Form 450, and the underlying executive branchwide financial disclosure regulation (5 CFR part 2634), constitute the basic reporting system that OGE has prescribed for such confidential financial disclosure in the executive branch.

Comments Received in Response to First Round Federal Register and Proposed Modified OGE Form 450

As noted above, in its first round Federal Register notice, OGE requested public comment on proposed modifications to the OGE Form 450. See 70 FR 47204-47206 (August 12, 2005). OGE received 18 agency comments on the proposed revised form, both in response to that paperwork notice and form-specific comments in response to OGE's related proposed amendments to the confidential financial disclosure regulation. See 70 FR 47138-47147 (August 12, 2005). As noted above, OGE has in response significantly redesigned the proposed new modified OGE Form 450 and recently published another first round paperwork notice in order to provide a further comment period thereon. See 71 FR 13848-13850 (March 17, 2006) and OGE DAEOgram DO-06-007 of the same date, both available on OGE's Web site at http://www.usoge.gov.

As also noted, in this notice OGE is announcing its request to OMB for a limited one-year extension of paperwork approval for the current version of the OGE Form 450 allowing its continued use by new entrants for the rest of this year while the new modified report form is being finalized for expected use, once cleared by OMB, starting in 2007.

Gifts/Travel Reimbursements Reporting Thresholds

Executive branch departments and agencies should continue to inform OGE Form 450 filers, through cover memorandum or otherwise, of the adjustment made last year to the gifts/travel reimbursements reporting thresholds when providing the form for completion. Given that OGE is just, in this notice, announcing its limited request to OMB for a one-year extension of paperwork approval of the current version of the OGE Form 450 (9/02 edition), the reporting thresholds under Part V of the form for gifts and travel reimbursements are out-of-date and are not being corrected on the existing form (they will be reflected in the future modified version of the report form). The current form does not incorporate the new aggregation threshold of more than $305 for the reporting of gifts and travel reimbursements. This new threshold is based on the General Services Administration's (GSA's) increase in “minimal value” under the Foreign Gifts and Decorations Act to $305 or less for 2005-2007, to which the thresholds are linked by the Ethics Act and OGE regulation. See GSA's redefinition at 70 FR 2317-2318 (pt. V) (January 12, 2005), section 102(a)(2)(A) and (B) of the Ethics Act, OGE's regulatory adjustment of the gifts/reimbursements thresholds for both public and confidential financial disclosure reports at 70 FR 12111-12112 (March 11, 2005), and OGE DAEOgram DO-05-007 of March 17, 2005, all available on OGE's Web site at http://www.usoge.gov. As indicated in that notice and DAEOgram last year, OGE continues to ask agencies to inform new entrant filers, who will use the current version of the OGE Form 450 for the rest of 2006, of the higher threshold.

Web Site Distribution of Blank Forms

The Office of Government Ethics makes the current OGE Form 450 available to departments and agencies and their reporting employees through the Forms, Publications & Other Ethics Documents section of OGE's Web site http://www.usoge.gov. This method allows employees a couple different options for filling out their reports on the current version of the OGE Form 450 on a computer (in addition to a downloadable blank form), although a printout and manual signature of the current form are still required unless specifically approved otherwise by OGE. OGE expects to have a system in place by February 2007, not only for electronic completion of the future new modified OGE Form 450 (once it is finally approved) but also for electronic filing.

Effect on Use of Alternative Reports and OGE Optional Form 450-A

Since 1992, various departments and agencies have developed, with OGE review/approval, alternative reporting formats such as certificates of no conflict for certain classes of employees. Other agencies provide for additional disclosures pursuant to independent organic statutes and in certain other circumstances when authorized by OGE. Moreover, in 1997, OGE itself developed the OGE Optional Form 450-A (Confidential Certificate of No New Interests (Executive Branch)) for possible agency and confidential filer employee use in certain years, if applicable. That optional confidential form continues in use at various agencies throughout the executive branch. Agencies' authority to use these alternative systems, including the OGE Optional Form 450-A, continues. OGE notes that the underlying OGE Form 450 remains the uniform executive branch report form for most of those executive branch employees required by their agencies to report confidentially on their financial interests.

Reporting Individuals

The OGE Form 450 is to be filed by each reporting individual with the designated agency ethics official at the executive department or agency where he or she is or will be employed. Reporting individuals are regular employees whose positions have been designated by their agency under 5 CFR 2634.904 as requiring confidential financial disclosure in order to help avoid conflicts with their assigned responsibilities. Under that section, special Government employees (SGEs) are also generally required to file. Agencies may, if appropriate under the OGE regulation, exclude certain regular employees or SGEs as provided in 5 CFR 2634.905 (§ 2634.904(b) of the regulation as proposed for revision). Reports are normally required to be filed within 30 days of entering a covered position (or earlier if required by the agency concerned), and again annually if the employee serves for more than 60 days in the position. Most of the persons who file this report are current executive branch Government employees at the time they complete their report. However, some filers are private citizens who are asked by their prospective agencies to file new entrant reports prior to entering Government service in order to permit advance checking for any potential conflicts of interest and resolution thereof by recusal, divestiture, waiver, etc.

Reporting Burden

Based on OGE's annual agency ethics program questionnaire responses for 2002 through 2004, OGE estimates that an average of approximately 277,215 OGE Form 450 reports will be filed each year for the next three years throughout the executive branch. This estimate is based on the number of reports filed branchwide for 2002 through 2004 (272,755 in 2002, 263,463 in 2003, and 295,426 in 2004) for a total of 831,644, with that number then divided by three and rounded, to give the projected annual average of 277,215 reports. Of these reports, OGE estimates that 7.6 percent, or some 21,068 per year, will be filed by private citizens. Private citizen filers are those potential (incoming) regular employees whose positions are designated for confidential disclosure filing as well as potential SGEs whose agencies require that they file their new entrant reports prior to assuming Government responsibilities. No termination reports are required for the OGE Form 450.

Each filing is estimated to take an average of one and one-half hours to complete. This yields an annual reporting burden of 31,602 hours. OGE previously has published an estimate of only 15 hours because we were not previously required by OMB to make a branchwide estimate, and 15 hours is the applicable regulatory minimum. The current burden hours for the form as listed in OGE's paperwork inventory therefore account for private citizen filers whose reports were filed each year only with OGE itself. In the past, the number of private citizens whose reports were filed each year with OGE itself was less than 10, but pursuant to the OMB paperwork regulation at 5 CFR 1320.3(c)(4)(i), the lower limit for this general regulatory-based requirement is set at 10 private persons. Thus, OGE reported the current annual burden of 15 hours. The proposed estimate of burden hours includes private citizen reports filed with departments and agencies throughout the executive branch (including OGE).

Consideration of Comments on the Unmodified OGE Form 450

In this second round paperwork notice, public comment is invited on the unmodified OGE Form 450 as set forth in this notice. In accordance with the Paperwork Reduction Act of 1995 (44 U.S.C. chapter 35), public comments are invited specifically on the need for and practical utility of this collection of information, the accuracy of OGE's burden estimate, the enhancement of quality, utility and clarity of the information collected, and the minimization of burden (including the use of information technology). The Office of Government Ethics, in consultation with OMB, will consider all comments received, which will become a matter of public record.

Approved: March 27, 2006.
Marilyn L. Glynn,
Acting Director, Office of Government Ethics.

[FR Doc. E6-4661 Filed 3-29-06; 8:45 am]

BILLING CODE 6345-02-P